DEPARTMENT OF DEFENSE

Department of the Army; Corps of Engineers

Intent To Prepare a Draft Environmental Impact Statement (EIS) for the Myrtle Grove Ecosystem Restoration Analysis, LA

AGENCY: U.S. Army Corps of Engineers, DoD.

ACTION: Notice of intent.

SUMMARY: Estimates show that approximately 30 square miles of coastal wetlands convert to open water in Louisiana each year. Causes of wetland loss are as varied and complex as wetland location and type. Wetland loss has been attributed to the loss of freshwater, nutrient, and sediment input from the Mississippi River due the construction of flood protection levees, salt water intrusion, oil and gas access canals, navigation channels, subsidence, and sea level rise. The loss of wetlands leads to serious negative impacts on fish and wildlife populations, hurricane protection, and the economy of Louisiana and the nation. If flows of freshwater, nutrient, and sediment from the Mississippi River into wetlands were reestablished, then lost coastal wetland ecosystem structure and function would be restored to a sustainable level.

FOR FURTHER INFORMATION: Questions concerning the EIS should be addressed to Mr. Sean Mickal at (504) 862-2319. Mr. Mickal may also be reached at FAX number (504) 862-2572 or by E-mail at sean.p.mickal@mvn02.usace.army.mil. Mr. Mickal's address is U.S. ARMY CORPS OF ENGINEERS, PM-RS, P.O. BOX 60267, NEW ORLEANS, LA 70160-0267.

SUPPLEMENTARY INFORMATION:

1. Authority

The U.S. Army Corps of Engineers, New Orleans District, at the direction of the Louisiana Coastal Wetlands Conservation and Restoration Task Force, is initiating this study under the authority of the Coastal Wetlands Planning, Protection and Restoration Act, Pub. L. 101-646. This act includes funds for the planning of measures for the creation, restoration, protection and enhancement of coastal wetlands.

2. Proposed Action

The proposed action would restore, enhance, and sustain the coastal wetlands ecosystem west of the Mississippi River in Barataria Basin, Louisiana. This ecosystem is located approximately 25-30 miles due south of New Orleans, Louisiana, in Plaquemines, Jefferson, and Lafourche parishes. This action would attempt to utilize the nutrients, freshwater, and sediment of the Mississippi River for this restoration. The objective is to reestablish ecosystem functions lost with wetlands deterioration and would increase the wetland acreage and biodiversity of the ecosystem. Environmental analysis would be used to determine the most practical plan, which would provide for the greatest overall public benefit. The recommended plan would restore degraded wetlands with the least adverse impacts to stakeholder interests.

3. Alternatives

Alternatives recommended for consideration presently include the construction of one or more river diversion structures in the vicinity of Myrtle Grove, dedicated dredging to construct wetlands, the construction of outfall management structures, and combinations of the above. Various capacities for the diversion structure(s) would be investigated. Various increments of dedicated dredging and increments of long-term diversion amounts would also be investigated.

4. Scoping

Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A series of public scoping meetings will be held in the early part of 2002. These meetings will be held in Plaquemines and Jefferson Parishes, Louisiana. Additional meetings could be held, depending upon interest and if it is determined that further public coordination is warranted.

5. Significant Issues

The tentative list of resources and issues that would be evaluated in the EIS includes tidally influenced coastal wetlands (marshes and swamps), aquatic resources, commercial and recreational fisheries, wildlife resources, essential fish habitat, water quality, air quality, threatened and endangered species, recreation resources, and cultural resources. Socioeconomic items that would be evaluated in the EIS include navigation, flood protection, business and industrial activity, employment, land use, property values, public/community facilities and services, tax revenues, population, community and regional growth, transportation, housing, community cohesion, and noise.

6. Environmental Consultation and Review

The U.S. Fish and Wildlife Service (USFWS) will be assisting in the documentation of existing conditions and assessment of effects of project alternatives through Fish and Wildlife Coordination Act consultation procedures. The USFWS will also provide a Fish and Wildlife Coordination Act report. Consultation will also be accomplished with the USFWS and the National Marine Fisheries Service (NMFS) concerning threatened and endangered species and their critical habitat. The NMFS will be consulted on the effects of this proposed action on Essential Fish Habitat. The draft EIS or a notice of its availability will be distributed to all interested agencies, organizations, and individuals.

7. Estimated Date of Availability

Funding levels will dictate when the draft EIS would be made available. The earliest date the draft EIS is expected to be available is the spring of 2004.

Dated: January 10, 2002.
Thomas F. Julich,
Colonel, U.S. Army, District Engineer.

[FR Doc. 02-2219 Filed 1-29-02; 8:45 am]

BILLING CODE 3710-84-P